ENVIRONMENTAL PROTECTION AGENCY

[EPA-HQ-OPP-2019-0066; FRL-9992-10]

Petition To Modify the Tolerance and Product Labels for Glyphosate With Regard to Oats; Notice of Filing

AGENCY: Environmental Protection Agency (EPA).

ACTION: Notice.

SUMMARY: EPA is seeking public comment on a September 27, 2018 petition from the Environmental Working Group (EWG), Ben & Jerry's Homemade, Inc., Happy Family Organics, MegaFood, MOM's Organic Market, National Co+op Grocers, Nature's Path Foods Inc., One Degree Organic Foods USA, Inc., and Stonyfield Farms, Inc. requesting that the agency reduce the tolerance of the pesticide glyphosate in or on oats and require glyphosate-containing product labels to explicitly prohibit preharvest use on oats. The petitioners have submitted this petition under the Federal Food, Drug, and Cosmetic Act (FFDCA) and the Administrative Procedure Act (APA) and as comments for consideration during the registration review of glyphosate under the Federal Insecticide, Fungicide, and Rodenticide Act (FIFRA).

DATES: Comments must be received on or before June 5, 2019.

ADDRESSES: Submit your comments, identified by docket identification (ID) number EPA-HQ-OPP-2019-0066, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Khue Nguyen, Pesticide Re-evaluation Division (7508P), Office of Pesticide Programs, Environmental Protection Agency, 1200 Pennsylvania Ave. NW, Washington, DC 20460-0001; main telephone number: 703-347-0248; email address: nguyen.khue@epa.gov.

SUPPLEMENTARY INFORMATION:

I. General Information

A. Does this action apply to me?

This action is directed to the public in general, and may be of interest to a wide range of stakeholders, including environmental, human health, and agricultural advocates, the chemical industry, pesticide users, agricultural producers, food manufacturers, pesticide manufacturers, and members of the public interested in the sale, distribution, or use of pesticides. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA seeks public comment during the next 30 days on a pesticide petition dated September 27, 2018 (available in docket number EPA-HQ-OPP-2019-0066 at http://www.regulations.gov) from the EWG, Ben & Jerry's Homemade, Inc., Happy Family Organics, MegaFood, MOM's Organic Market, National Co+op Grocers, Nature's Path Foods Inc., One Degree Organic Foods USA, Inc., and Stonyfield Farms, Inc. The petitioners request that EPA reduce the glyphosate tolerance for oats from 30 parts per million (ppm) to 0.1 ppm and prohibit preharvest use on oats. The petition also requests that EPA require glyphosate-containing product labels to explicitly prohibit the use of glyphosate as a preharvest dessicant on oats. The petition is filed pursuant to section 408 of the FFDCA and section 553(e) of the Administrative Procedures Act.

As part of their petition, the petitioners have submitted results of residue testing from the EWG of glyphosate levels in various granola, instant oat, breakfast cereal, and snack commodities. The petitioners claim that glyphosate is a possible carcinogen and that the current 30 ppm glyphosate tolerance on oats is not adequately protective of children. In addition, the petitioners request revisions to glyphosate labels that they believe will reduce the potential for children's dietary exposure to glyphosate in oat products.

Background materials related to the FIFRA Scientific Advisory Panel (SAP) meeting to discuss the carcinogenic potential of glyphosate, including the transcript, the March 16, 2017 “Transmission of Meeting Minutes and Final Report of the December 13-16, 2016 FIFRA SAP Meeting Held to Consider and Review Scientific Issues Associated with EPA's Evaluation of the Carcinogenic Potential of Glyphosate”, and EPA's December 12, 2017 “Response to the Final Report of the Federal Insecticide, Fungicide, and Rodenticide Act Scientific Advisory Panel (FIFRA SAP) on the Evaluation of the Human Carcinogenic Potential of Glyphosate” are available online at: https://cfpub.epa.gov/si/si_public_record_Report.cfm?Lab=OPP&dirEntryId=337935.

EPA's December 12, 2017 “Revised Glyphosate Issue Paper: Evaluation of Carcinogenic Potential, its December 12, 2017 Glyphosate Draft Human Health Risk Assessment for Registration Review”, and its September 8, 2015 “Registration Review—Preliminary Ecological Risk Assessment for Glyphosate and its Salts” are available online at: https://www.epa.gov/ingredients-used-pesticide-products/draft-human-health-and-ecological-risk-assessments-glyphosate. The Agency's Proposed Interim Registration Review Decision for glyphosate is also available for public comment in docket EPA-HQ-OPP-2009-0361 at http://www.regulations.gov.

Dated: April 24, 2019.
Charles Smith,
Acting Director, Pesticide Re-evaluation Division, Office of Pesticide Programs.

[FR Doc. 2019-09221 Filed 5-3-19; 8:45 am]

BILLING CODE 6560-50-P